DEPARTMENT OF THE INTERIOR

Fish and Wildlife Service

[Docket No. FWS-HQ-IA-2024-0033; FXIA16710900000-245-FF09A10000]

Conference of the Parties to the Convention on International Trade in Endangered Species of Wild Fauna and Flora (CITES); Twentieth Regular Meeting: Taxa Being Considered for Amendments to the CITES Appendices and Proposed Resolutions, Decisions, and Agenda Items Being Considered; Observer Information

AGENCY: Fish and Wildlife Service, Interior.

ACTION: Notice.

SUMMARY: The United States, as a Party to the Convention on International Trade in Endangered Species of Wild Fauna and Flora (CITES), may propose amendments to the CITES Appendices for consideration at meetings of the Conference of the Parties. The twentieth regular meeting of the Conference of the Parties to CITES (CoP20) is scheduled to be held in Uzbekistan, November 24-December 5, 2025. With this notice, we respond to recommendations received from the public concerning proposed amendments to the CITES Appendices (species proposals) and proposed resolutions, decisions, and agenda items that the United States might submit for consideration at CoP20; invite your comments and information on these potential proposals and working documents; and provide information on how U.S. nongovernmental organizations can attend CoP20 as observers.

DATES:

Meeting: The meeting is scheduled to be held in Samarkand, Uzbekistan, November 24-December 5, 2025.

Submitting Information and Comments: We will consider written information and comments we receive by January 16, 2025.

ADDRESSES:

Comments: You may submit comments pertaining to species proposals for consideration at CoP20 by one of the following methods:

(1) Electronically: Using the Federal eRulemaking Portal: https://www.regulations.gov, search for and submit comments on FWS-HQ-IA-2024-0033, which is the docket number for this notice.

(2) U.S. mail: Submit by U.S. mail to Public Comments Processing; Attn: Docket No. FWS-HQ-IA-2024-0033; U.S. Fish and Wildlife Service; MS: PRB (JAO/3W); 5275 Leesburg Pike, Falls Church, VA 22041-3803.

Requesting Approval To Attend CoP20 as an Observer: Send your request via U.S. mail to the Division of Management Authority, U.S. Fish and Wildlife Service, 5275 Leesburg Pike, MS: IA, Falls Church, VA 22041; via email to managementauthority@fws.gov; or via fax to 703-358-2276.

FOR FURTHER INFORMATION CONTACT: For information pertaining to species proposals, contact Rosemarie Gnam, Head, Division of Scientific Authority, at 703-358-1708 (phone); 703-358-2276 (fax); or scientificauthority@fws.gov (email). For information pertaining to resolutions, decisions, and agenda items, contact Naimah Aziz, Head, Division of Management Authority, at 703-358-2028 (phone); 703-358-2298 (fax); or managementauthority@fws.gov (email).

Individuals in the United States who are deaf, deafblind, hard of hearing, or have a speech disability may dial 711 (TTY, TDD, or TeleBraille) to access telecommunications relay services. Individuals outside the United States should use the relay services offered within their country to make international calls to the point-of- contact in the United States.

SUPPLEMENTARY INFORMATION:

Background

The Convention on International Trade in Endangered Species of Wild Fauna and Flora, hereinafter referred to as CITES or the Convention, is an international treaty designed to control and regulate international trade in certain animal and plant species that are or may be affected by trade and are now, or potentially may become, threatened with extinction. Species are included in the Appendices to CITES, which are available on the CITES Secretariat's website at https://www.cites.org. See https://www.cites.org/eng/app/appendices.php; 50 CFR 23.91(a) (How do I find out if a species is listed? The official CITES list includes species of wildlife and plants placed in Appendix I, II, and III in accordance with the provisions of Articles XV and XVI of the Treaty. This list is maintained by the CITES Secretariat (Secretariat) based on decisions of the Parties. You can access the official list from the CITES website (see § 23.7).); 50 CFR 23.7(f).

Currently there are 184 Parties to CITES—183 countries, including the United States, and one regional economic integration organization, the European Union. The Convention calls for regular biennial meetings of the Conference of the Parties (CoP) unless the Conference decides otherwise. At these meetings, the Parties review the implementation of CITES, make provisions enabling the Secretariat in Switzerland to carry out its functions, consider amendments to the species included in Appendices I and II, consider reports presented by the Secretariat, and make recommendations for the improved effectiveness of CITES. Any country that is a Party to CITES may propose amendments to Appendices I and II, as well as resolutions, decisions, and agenda items for consideration by all the Parties. The U.S. Fish and Wildlife Service (Service) regulations governing this public process are found in title 50 of the Code of Federal Regulations at 50 CFR 23.87.

The Endangered Species Act (ESA; 16 U.S.C. 1531 et seq.), in part, implements CITES and incorporates its Appendices of CITES-listed species into U.S. law (see, e.g., 16 U.S.C. 1532(4), 1537a, 1538(c), 1538(g), 1539(g), 1540(f)), and the Service has promulgated U.S. CITES implementing regulations (see 50 CFR part 23). The Secretary of the Interior is designated the U.S. Management Authority and U.S. Scientific Authority for CITES purposes, and the respective functions of each are carried out by the Service. 16 U.S.C. 1537a; 50 CFR 23.6. The ESA prohibits, inter alia, “any person subject to the jurisdiction of the United States to engage in any trade in any specimens contrary to the provisions of the Convention, or to possess any specimens traded contrary to the provisions of the Convention.” 16 U.S.C. 1538(c); 16 U.S.C. 1532(4) (“The term “Convention” means the Convention on International Trade in Endangered Species of Wild Fauna and Flora, signed on March 3, 1973, and the appendices thereto.”). U.S. CITES implementing regulations explain the administration of CITES, the CITES listing process, the effective dates of CITES listings, and where to find official CITES documents and the CITES Appendices, as set forth in 50 CFR 23.7 and 23.84-23.91. At least 150 days before any CoP is held, any Party may submit a proposed amendment to Appendix I or II (e.g., for a species to be included in, removed from, or transferred between the CITES Appendices). CITES Art. XV(1)(a); 50 CFR 23.87(b)(2). The Secretariat then makes publicly available and provides all Parties a list of proposed amendments. CITES Art. XV(1)(a), (2)(c); 50 CFR 23.7(f)(5). Pursuant to 50 CFR 23.7 and 23.86, as we receive information on the upcoming CoP, we notify the public through Federal Register notices or on our website. The CoP can adopt amendments to Appendices I and II by a two-thirds majority of those Parties in attendance. 50 CFR 23.85(a); CITES Art. XV(1)(b). Appendix-I and -II species listings adopted at the CoP are effective 90 days after the last day of the CoP, unless otherwise specified in the proposal. 50 CFR 23.91(b)(1); CITES Art. XV(1)(c); 72 FR 48402 at 48439 and 48492-48494, August 23, 2007; 71 FR 20168 at 20205-20207, April 19, 2006.

This is our second notice in a series of Federal Register notices that, together with an announced public meeting that we will hold approximately 2 to 3 months prior to CoP20, provide you with an opportunity to participate in the development of the U.S. submissions and negotiating positions for CoP20. With this notice, we describe proposed amendments to the CITES Appendices (species proposals) and proposed resolutions, decisions, and agenda items that the United States might submit for consideration at CoP20; invite your comments and information on these proposals and other documents; and provide information on how U.S. nongovernmental organizations can attend CoP20 as observers.

We published our first CoP20-related Federal Register notice on March 22, 2024 (89 FR 20489), in which we requested information and recommendations on animal and plant species proposals, and information and recommendations on proposed resolutions, decisions, and agenda items for the United States to consider submitting for consideration at CoP20, and provided preliminary information on how to request approved observer status for nongovernmental organizations that wish to attend the meeting. Comments received on our March 22, 2024, notice can be viewed at https://www.regulations.gov in Docket No. FWS-HQ-IA-2024-0033.

Recommendations for Species Proposals for the United States To Consider Submitting for CoP20

In response to our March 2024 notice, we received 46 comments with recommendations from 19 individuals and 25 organizations for possible proposals involving almost 3,500 animal taxa and 13 plant taxa for amendments to the CITES Appendices. The commenters include organizations such as the Association of Zoos and Aquariums, Animal Welfare Institute, California Native Plant Society, Center for Biological Diversity, Humane Society International, International Fund for Animal Welfare, IUCN (International Union for Conservation of Nature) Species Survival Commission Specialist Groups, International Wood Products Association, League of American Orchestras, Natural Resource Defense Council, Safari Club International, Species Survival Network, United Plant Savers, Wildlife Conservation Society, and World Wildlife Fund. Additionally, the United States may consider two animal species (United States is a range country) proposals that previously resulted from the Periodic Review process (Resolution Conf. 14.8 (Rev. CoP17)) by the Animals Committee, and where that Committee recommended that Mexico, as a range country for the species being reviewed, bring forward a proposal to amend the Appendices.

We have undertaken initial evaluations of the available trade and biological information on many of these taxa, but we recognize that many of the commenters provided little biological, trade, and other information with which to support their comments. Based on the limited information available, we made provisional evaluations of whether to proceed with the development of proposals for species to be included in, removed from, or transferred between the CITES Appendices. We made these evaluations by considering the best information available on the species; the presence, absence, and effectiveness of other mechanisms that may preclude the need for species' inclusion in the CITES Appendices (e.g., range country actions or other international agreements); and availability of resources. We have also considered the following factors, as per the United States' approach for CoP20 discussed in the March 22, 2024, Federal Register notice (89 FR 20489):

(1) Does the proposed action address a serious wildlife or plant trade issue that the United States is experiencing as a range country for species in trade?

(2) Does the proposed action address a serious wildlife or plant trade issue for species not native to the United States?

(3) Does the proposed action provide additional conservation benefit for a species already covered by another international agreement?

Based on our initial evaluations, we have assigned each taxon to one of three categories, which reflects the likelihood of our submitting a proposal. In sections A, B, and C, below, we have listed the current status of each species proposal recommended by the public, as well as some species proposals we have been developing internally or from the Periodic Review process. Please note that we have provided here only a list of taxa and the proposed action of likely, unlikely, or undecided on whether to submit a species proposal for consideration at CoP20. We have posted an extended table version of this notice on our website (at https://www.fws.gov/program/international-affairs/federal-register-notices) with text describing in more detail certain proposed actions and explaining the rationale for the tentative U.S. position on these possible proposals. We also describe in this table the information that we are seeking for proposals where the United States is undecided on submission. Copies of the extended table version of the notice are also available from the Division of Scientific Authority at the above address or at https://www.regulations.gov at Docket No. FWS-HQ-IA-2024-0033.

We welcome your comments, especially if you are able to provide any additional biological or trade information on these species. Please note that, throughout this notice, an asterisk (*) indicates species that occur in the United States of America or its territories.

A. What species proposals will the United States likely submit for consideration at CoP20?

The two taxa in this section have undergone review through the Periodic Review of the Appendices by the Animals Committee (AC), most recently at its 33rd meeting (AC33; Geneva, July 2024), in accordance with Resolution Conf. 14.8 (Rev. CoP17). This is a regular process under CITES to evaluate whether listings of taxa in CITES Appendices I and II continue to be appropriate, based on current biological and trade information.

Mexico undertook the periodic review evaluation for these two taxa and submitted the results of their review for consideration at AC33 (https://cites.org/sites/default/files/documents/E-AC33-45-03.pdf and https://cites.org/sites/default/files/documents/E-AC33-45-04.pdf). The Animals Committee supported Mexico's recommendation that the two seal taxa be transferred from Appendix I to Appendix II and invited Mexico to bring proposals to CoP20. Since the United States is a range country for these taxa, we invite comments on such proposals.

1. * Guadalupe fur seal (Arctocephalus townsendi)—Transfer from Appendix I to Appendix II (Periodic Review Process by Mexico)

2. * Caribbean monk seal (Monachus tropicalis)—Transfer from Appendix I to Appendix II (Periodic Review Process by Mexico)

B. On what species proposals is the United States undecided, pending additional information and consultations?

The United States is still undecided on whether to submit CoP20 proposals for the following taxa. In most cases, we have not completed our consultations with relevant range countries. In other cases, we expect meetings to occur in the immediate future, at which participants will generate important recommendations, trade analyses, or biological information on the taxon in question that may be useful to our final decision making.

Plants

3. * White sage (Salvia apiana)—Add to Appendix II

4. Apitong, keruing, yang, gurjan (Dipterocarpus spp. [65 species])—Add to Appendix II

5. * American ginseng (Panax quinquefolius) Araliaceae (ginseng) family—Transfer from Appendix II to Appendix I, or alternately a proposal to amend Annotation #3 or to submit a working document to address issues relating to trade in American ginseng

Mammals

6. Painted wooly bat (Kerivoula picta)—Add to Appendix II

7. Sloths (Bradypus spp. and Choloepus spp.)—Add all non-CITES species to Appendix II

Birds

8. African hornbills (Ceratogymna and Bycanistes)—Add all species to Appendix II

9. * Peregrine falcon (Falco peregrinus)—Transfer from Appendix I to Appendix II

Reptiles

10. Order Testudines or all Freshwater turtles [~348 species, ~139 not listed in CITES or listed as Appendix III]—Include all species in at least Appendix II [~139 species]; transfer all IUCN-assessed threatened or endangered species from Appendix II to Appendix I (we are considering all native species not currently listed in Appendix II = 22 native species as well as 2 native species that are threatened or endangered species for Appendix I—see turtle species below)

11. * Western pond turtle (Actinemys marmorata)—Include all species not currently listed in Appendix II

12. * Southwestern pond turtle (Actinemys pallida)—Include all species not currently listed in Appendix II

13. * Painted turtle (Chrysemys picta) (including C. p. dorsalis)—Include all species not currently listed in Appendix II

14. * Chicken turtle (Deirochelys reticularia)—Include all species not currently listed in Appendix II

15. * Alabama red-bellied turtle (Pseudemys alabamensis)—Include all species not currently listed in Appendix II

16. * Eastern river cooter (Pseudemys concinna)—Include all species not currently listed in Appendix II

17. * Florida cooter (Pseudemys floridana)—Include all species not currently listed in Appendix II

18. * Rio Grande cooter (Pseudemys gorzugi)—Include all species not currently listed in Appendix II

19. * Florida redbelly turtle (Pseudemys nelsoni)—Include all species not currently listed in Appendix II

20. * Peninsula cooter (Pseudemys peninsularis)—Include all species not currently listed in Appendix II

21. * Northern red-bellied turtle (Pseudemys rubriventris)—Include all species not currently listed in Appendix II

22. * Texas river cooter (Pseudemys texana)—Include all species not currently listed in Appendix II

23. * Big Bend slider (Trachemys gaigeae)—Include all species not currently listed in Appendix II

24. * Red-eared slider (Trachemys scripta)—Include all species not currently listed in Appendix II 23.

25. * Cagle's map turtle (Graptemys caglei)—Include all species not currently listed in Appendix II

26. * Northern map turtle (Graptemys geographica)—Include all species not currently listed in Appendix II 25.

27. * Black-knobbed map turtle (Graptemys nigrinoda)—Include all species not currently listed in Appendix II

28. * Ringed map turtle (Graptemys oculifera)—Include all species not currently listed in Appendix II

29. * Ouachita map turtle (Graptemys ouachitensis)—Include all species not currently listed in Appendix II

30. * False map turtle (Graptemys pseudogeographica)—Include all species not currently listed in Appendix II

31. * Texas map turtle (Graptemys versa)—Include all species not currently listed in Appendix II

32. * Yellow-blotched sawback (Graptemys flavimaculata)—Include all species not currently listed in Appendix II

33. * Spotted turtle (Clemmys guttata)—Transfer from Appendix II to Appendix I

34. * Blanding's turtle (Emydoidea blandingii)—Transfer from Appendix II to Appendix I

35. Home's hingeback tortoise (Kinixys homeana)—Transfer from Appendix II to Appendix I

36. * Rattlesnakes (Crotalus spp. [44 species])—Add to Appendix II [44 species]

37. * Timber rattlesnake (Crotalus horridus)—Add to Appendix II

38. * Western rattlesnake (Crotalus oreganus)—Add to Appendix II

39. * Prairie rattlesnake (Crotalus viridis)—Add to Appendix II

40. Blue-spotted tree monitor (Varanus macraei)—Transfer from Appendix II to Appendix I

Amphibians

41. Sonoran Desert Toad (Incilius alvarius)—Add to Appendix II

Sharks and Rays

42. * Oceanic whitetip shark (Carcharhinus longimanus)—Transfer from Appendix II to Appendix I

43. Gulper sharks or deepwater sharks (Centrophoridae family)—Add to Appendix II

44. * Gulper shark (Centrophorus granulosus)—Add to Appendix I

45. * Mosaic gulper shark (Centrophorus tessellatus)—Add to Appendix I or II

46. * Little gulper shark (Centrophorus uyato)—Add to Appendix I or II

47. * Whale shark (Rhincodon typus)—Transfer from Appendix II to Appendix I

Bony fishes

48. Banggai cardinalfish (Pterapogon kauderni)—Add to Appendix II

49. * American eel (Anguilla rostrata)—Add to Appendix II

Invertebrates

50. * Chocolate chip or four-sided or three-rowed sea cucumber (Isostichopus badionotus)—Add to Appendix II

51. Brown sea cucumber (Isostichopus fuscus)—Transfer from Appendix III (Ecuador) to Appendix I

52. * Stichopod sea cucumber (Isostichopus macroparentheses)—Add to Appendix II

53. * Stichopod sea cucumber (Isostichopus maculatus)—Add to Appendix II

54. Golden sandfish (Holothuria lessoni)—Add to Appendix II

55. * Curryfish, Herrmann's sea cucumber (Stichopus herrmanni)—Add to Appendix II (was suggested for Appendix I)

56. * American horseshoe crab (Limulus polyphemus)—Add to Appendix I or II

57. Red and pink coral (Corallium spp. [~20+ spp.])—Add to Appendix II

C. For which species is the United States unlikely to submit proposals for consideration at CoP20, unless we receive significant additional information?

The United States does not intend to submit proposals for the following taxa unless we receive significant additional information indicating that a proposal is warranted.

Plants

58. * California lady's slipper (Cypripedium californicum) Orchidaceae (orchid) family—Transfer from Appendix II to Appendix I

59. * Mountain lady's slipper (Cypripedium montanum) Orchidaceae (orchid) family—Transfer from Appendix II to Appendix I

60. * Sparrow's-egg lady's slipper (Cypripedium passerinum) Orchidaceae (orchid) family—Transfer from Appendix II to Appendix I

61. * Two-keeled hooded orchid (Galeandra bicarinata) Orchidaceae (orchid) family—Transfer from Appendix II to Appendix I

62. * American elm (Ulmus americana)—Add to Appendix I

63. * Green ash (Fraxinus pennsylvanica) Oleaceae (olive) family—Add to Appendix I

64. * Longleaf pine (Pinus palustris) Pinaceae (pine) family—Add to Appendix I

65. * Redbay (Persea borbonia) Lauraceae (laurels) family—Add to Appendix I

66. * Swamp bay (Persea palustris) Lauraceae (laurels) family—Add to Appendix I

67. * White ash (Fraxinus americana) Oleaceae (olive) family—Add to Appendix I

Animals

Mammals

68. Dorcas gazelle (Gazella dorcas)—Transfer from Appendix III to Appendix I

69. Dwarf musk deer (Moschus berezovskii)—Transfer from Appendix II to Appendix I

70. Goitered gazelle (Gazella subgutturosa)—Add to Appendix I

71. Hippopotamus (Hippopotamus amphibius)—Transfer from Appendix II to Appendix I

72. Hog deer (Axis porcinus)—Transfer from Appendix III to Appendix I

73. Javan deer (Rusa timorensis)—Add to Appendix I

74. Lowland tapir (Tapirus terrestris)—Transfer from Appendix II to Appendix I

75. Mountain nyala (Tragelaphus buxtoni)—Add to Appendix I

76. Musk deer (Moschus moschiferus)—Transfer from Appendix II to Appendix I

77. * Polar bear (Ursus maritimus)—Transfer from Appendix II to Appendix I

78. * Reindeer/caribou (Rangifer tarandus)—Add to Appendix I

79. Sambar deer (Rusa unicolor)—Add to Appendix I

80. * Sea otter (Enhydra lutris)—Transfer from Appendix II to Appendix I (one subspecies, Enhydra lutris nereis, is listed in Appendix I)

81. White-lipped peccary (Tayassu pecari)—Transfer from Appendix II to Appendix I

Birds

82. * Aleutian cackling goose, Aleutian Canada goose, Aleutian goose (Branta canadensis leucopareia)—Remove from Appendix II [i.e., remove from CITES Appendices]

83. Copsychus (genus) [Magpie-robins and shamas including Kittacinca spp.; 10 species; 1 species, Copsychus malabaricus, listed in Appendix II]—Add to Appendix II [9 species]

84. Great curassow (Crax rubra)—Transfer from Appendix III to Appendix I

85. Long-tailed parakeet (Belocercus longicaudus)—Transfer from Appendix II to Appendix I

86. Rüppell's vulture (Gyps rueppelli)—Transfer from Appendix II to Appendix I

87. Steppe eagle (Aquila nipalensis)—Transfer from Appendix II to Appendix I

88. White-backed vulture (Gyps africanus)—Transfer from Appendix II to Appendix I

Reptiles

89. Agama lizard (Trapelus savignii)—Add to Appendix II

90. Asian giant tortoise (Manouria emys)—Transfer from Appendix II to Appendix I

91. * Barbour's map turtle (Graptemys barbouri)—Transfer from Appendix II to Appendix I

92. Black marsh turtle (Siebenrockiella crassicollis)—Transfer from Appendix II to Appendix I

93. Burmese python (Python bivittatus)—Transfer from Appendix II to Appendix I

94. * Diamondback terrapin (Malaclemys terrapin)—Transfer from Appendix II to Appendix I

95. Dwarf chameleon (Bradypodion thamnobates)—Transfer from Appendix II to Appendix I

96. Egyptian spiny-tailed lizard (Uromastyx aegyptia)—Transfer from Appendix II to Appendix I

97. King cobra (Ophiophagus hannah)—Transfer from Appendix II to Appendix I

98. Leopard fringe-fingered lizard (Acanthodactylus pardalis)—Add to Appendix I

99. Masked water snakes, puff-faced water snakes (Homalopsis spp. [5 species])—Add to Appendix II [5 species]

100. * Massasauga rattlesnake (Sistrurus catenatus)—Add to Appendix II

101. * Pascagoula map turtle (Graptemys gibbonsi)—Transfer from Appendix II to Appendix I

102. * Pearl River map turtle (Graptemys pearlensis)—Transfer from Appendix II to Appendix I

103. Pig nose turtle (Carettochelys insculpta)—Transfer from Appendix II to Appendix I

104. Senegal flapshell turtle (Cyclanorbis senegalensis)—Transfer from Appendix II to Appendix I

105. Red-headed rat snake (Elaphe moellendorffi)—Transfer from Appendix II to Appendix I

106. White-bellied snapping turtle (Elseya branderhorsti)—Add to Appendix II

Amphibians

107. Harlequin frogs, stubfoot toads (Atelopus spp. ~94+ species; 1 species already included in CITES Appendix I: Atelopus zetek)—Add to Appendix I

108. Phantasmal poison frog (Epipedobates tricolor)—Transfer from Appendix II to Appendix I

109. Clown tree frog/harlequin poison frog (Oophaga histrionica)—Transfer from Appendix II to Appendix I

110. Lehmann's poision frog (Oophaga lehmanni)—Transfer from Appendix II to Appendix I

111. * Pigeon Mountain salamander (Plethodon petraeus)—Add to Appendix I

Sharks and Rays

112. * Scalloped hammerhead (Sphyrna lewini)—Transfer from Appendix II to Appendix I

113. * Smooth hammerhead (Sphyrna zygaena)—Transfer from Appendix II to Appendix I

114. * Silky shark (Carcharhinus falciformis)—Transfer from Appendix II to Appendix I

115. * Basking shark (Cetorhinus maximus)—Transfer from Appendix II to Appendix I

116. * Longfin mako (Isurus paucus)—Transfer from Appendix II to Appendix I

117. * Shortfin mako (Isurus oxyrinchus)—Transfer from Appendix II to Appendix I

118. * Common thresher (Alopias vulpinus)—Transfer from Appendix II to Appendix I

119. * Pelagic thresher shark (Alopias pelagicus)—Transfer from Appendix II to Appendix I

120. * Great White shark (Carcharodon carcharias)—Transfer from Appendix II to Appendix I

121. * Kitefin shark (Dalatias licha)—Add to Appendix I or III

122. * Tope (Galeorhinus galeus)—Add to Appendix I or II

123. * Porbeagle (Lamna nasu)—Transfer from Appendix II to Appendix I

124. * Spiny dogfish (Squalus acanthias)—Add to Appendix I

125. * Atlantic nurse shark (Ginglymostoma cirratum)—Add to Appendix II

126. Common smoothhound shark (Mustelus mustelus)—Add to Appendix I

127. * Sand tiger shark (Carcharias taurus)—Add to Appendix I

128. * Atlantic devilray (Mobula hypostoma)—Transfer from Appendix II to Appendix I

129. * Sicklefin devilray (Mobula tarapacana)—Transfer from Appendix II to Appendix I

130. * Spotted eagle ray (Aetobatus ocellatus)—Add to Appendix I

131. * Whitespotted eagle ray (Aetobatus narinari)—Add to Appendix II

132. * Bullnose eagle ray (Myliobatis freminvillii)—Add to Appendix II

133. * American cownose ray (Rhinoptera bonasus)—Add to Appendix II

134. * Spiny butterfly ray (Gymnura altavela)—Add to Appendix II

135. Porcupine ray (Urogymnus asperrimus)—Add to Appendix I

136. Tiger River stingray (Potamotrygon tigrina)—Add to Appendix I

137. Dasyatidae (stingrays from S. and SE Asia; ~68 ssp)—Add to Appendix II

138. * Winter skate (Leucoraja ocellata)—Add to Appendix I

139. * Thorny skate (Amblyraja radiata)—Add to Appendix I

Jawless Fish

140. * Pacific hagfish (Eptatretus stoutii)—Add to Appendix I or II

Bony Fishes

141. Freshwater eels (Anguilla spp.)—Add to Appendix II

142. European eel (Anguilla anguilla)—Add to Appendix I

143. Japanese eel (Anguilla japonica)—Add to Appendix I

144. Snowflake moray eel (Echidna nebulosa)—Add to Appendix II

145. Siberian sturgeon (Acipenser baerii)—Transfer from Appendix II to Appendix I

146. Russian sturgeon (Acipenser gueldenstaedtii)—Transfer from Appendix II to Appendix I

147. Sterlet (Acipenser ruthenus)—Transfer from Appendix II to Appendix I

148. Sakhalin sturgeon (Acipenser schrenckii)—Transfer from Appendix II to Appendix I

149. Stellate sturgeon (Acipenser stellatus)—Transfer from Appendix II to Appendix I

150. Kaluga sturgeon (Huso dauricus)—Transfer from Appendix II to Appendix I

151. Beluga sturgeon (Huso huso)—Transfer from Appendix II to Appendix I

152. White-seam betta (Betta albimarginata)—Add to Appendix I

153. Spotfin betta (Betta macrostoma)—Add to Appendix I

154. Sim's betta (Betta simorum)—Add to Appendix I

155. Black damselfish (Chrysiptera niger)—Add to Appendix I or II

156. * Atlantic bluefin tuna (Thunnus thynnus)—Add to Appendix I

157. * Pacific bluefin tuna (Thunnus orientalis)—Add to Appendix I

158. * Bigeye tuna (Thunnus obesus)—Add to Appendix I

159. * Brown-marbled grouper (Epinephelus fuscoguttatus)—Add to Appendix I

160. * Camouflage grouper (Epinephelus polyphekadion)—Add to Appendix I

161. * Nassau grouper (Epinephelus striatus; global and Gulf of Mexico)—Add to Appendix III

162. * Red grouper (Epinephelus morio)—Add to Appendix I

163. * Black grouper (Mycteroperca bonaci)—Add to Appendix I

164. * Yellow-fin grouper [Gulf of Mexico] (Mycteroperca venenosa)—Add to Appendix I

165. * Yellowmouth grouper (Mycteroperca interstitialis)—Add to Appendix I

166. * Squaretail coral grouper (Plectropomus areolatus)—Add to Appendix I

167. * Bluefish (Pomatomus saltatrix)—Add to Appendix I

168. * Blue marlin (Makaira nigricans)—Add to Appendix I

169. Cubera snapper (Lutjanus cyanopterus)—Add to Appendix I

170. * Red snapper (Lutjanus campechanus)—Add to Appendix I

171. * Vermilion snapper (Rhomboplites aurorubens)—Add to Appendix I

172. * Golden tilefish (Lopholatilus chamaeleonticeps)—Add to Appendix I

173. * Hogfish (Lachnolaimus maximus)—Add to Appendix I

174. * Humphead wrasse (Cheilinus undulatus)—Transfer from Appendix II to Appendix I

175. Naoko's fairy wrasse (Cirrhilabrus naokoae)—Add to Appendix II

176. * Mexican blindcat (Prietella phreatophila)—Add to Appendix I

177. * Tarpon (Megalops atlanticus)—Add to Appendix I

178. Clown goby (Callogobius amikami)—Add to Appendix II

179. * Peppermint goby (Coryphopterus lipernes)—Add to Appendix I

180. * Glass goby (Coryphopterus hyalinus)—Add to Appendix II

181. * Masked goby (Coryphopterus personatus)—Add to Appendix II

182. Barber goby (Elacatinus figaro)—Add to Appendix II

183. Broadstripe goby (Elacatinus prochilos)—Add to Appendix I or II

184. Striped catfish (Pangasianodon hypophthalmus)—Add to Appendix I

185. Phraya giant catfish (Pangasius sanitwongsei)—Add to Appendix I

186. Mekong tiger perch (Datnioides undecimradiatus)—Add to Appendix I

187. Harlequin sweetlips (Plectorhinchus chaetodonoides)—Add to Appendix II

188. Boeseman's rainbowfish (Melanotaenia boesemani)—Add to Appendix I

189. Blackspotted croaker (Protonibea diacanthus)—Add to Appendix II

190. Tiger-tail seahorse (Hippocampus comes)—Transfer from Appendix II to Appendix I

191. * Lined seahorse (Hippocampus erectus)—Transfer from Appendix II to Appendix I

192. * Thorny seahorse (Hippocampus histrix)—Transfer from Appendix II to Appendix I

193. * Giant seahorse (Hippocampus ingens)—Transfer from Appendix II to Appendix I

194. Great seahorse (Hippocampus kelloggi)—Transfer from Appendix II to Appendix I

195. * Spotted seahorse (Hippocampus kuda)—Transfer from Appendix II to Appendix I

196. * Long-snout seahorse (Hippocampus reidi)—Transfer from Appendix II to Appendix I (individual request to add to Appendix II, but is already in Appendix II)

197. Flat-faced seahorse (Hippocampus trimaculatus)—Transfer from Appendix II to Appendix I

Invertebrates

198. Cardinal shrimp (Caridina dennerli)—Add to Appendix I

199. Mangrove horseshoe crab (Carcinoscorpius rotundicauda)—Add to Appendix I or II

200. Coastal horseshoe crab (Tachypleus gigas)—Add to Appendix I or II

201. Tri-spine horseshoe crab (Tachypleus tridentatus)—Add to Appendix I or II

202. * Blue coral (Heliopora coerulea)—Transfer from Appendix II to Appendix I

203. * Cactus coral (Pavona cactus)—Transfer from Appendix II to Appendix I

204. * Cactus coral (Pavona decussata)—Transfer from Appendix II to Appendix I

205. * Daisy coral (Alveopora allingi)—Transfer from Appendix II to Appendix I

206. * Disc coral (Turbinaria mesenterina)—Transfer from Appendix II to Appendix I

207. * Disc coral (Turbinaria peltata)—Transfer from Appendix II to Appendix I

208. * Disc coral (Turbinaria reniformis)—Transfer from Appendix II to Appendix I

209. * Galaxy coral (Galaxea astreata)—Transfer from Appendix II to Appendix I

210. * Montipora coral (Montipora angulata)—Transfer from Appendix II to Appendix I

211. * Montipora coral (Montipora calcarea)—Transfer from Appendix II to Appendix I

212. * Montipora Coral (Montipora caliculata)—Transfer from Appendix II to Appendix I

213. * Porites coral (Porites horizontalata)—Transfer from Appendix II to Appendix I

214. * Porites coral (Porites nigrescens)—Transfer from Appendix II to Appendix I

215. * Scleractinian coral (Psammocora stellata)—Transfer from Appendix II to Appendix I

216. * Staghorn coral (Acropora acuminata)—Transfer from Appendix II to Appendix I

217. * Staghorn coral (Acropora aspera)—Transfer from Appendix II to Appendix I

218. * Staghorn coral (Acropora horrida)—Transfer from Appendix II to Appendix I

219. * Staghorn coral (Acropora paniculata)—Transfer from Appendix II to Appendix I

220. * Staghorn coral (Acropora polystoma)—Transfer from Appendix II to Appendix I

221. Elegance coral (Catalaphyllia jardinei)—Transfer from Appendix II to Appendix I

222. * Elephant skin coral (Pachyseris rugosa)—Transfer from Appendix II to Appendix I

223. * Large polyped stony corals (Euphyllia spp.)—Transfer from Appendix II to Appendix I

224. Lettuce coral (Pectinia lactuca)—Transfer from Appendix II to Appendix I

225. Long-tentacled plate coral (Heliofungia actiniformis)—Transfer from Appendix II to Appendix I

226. Pearl bubble coral (Physogyra lichtensteini)—Transfer from Appendix II to Appendix I

227. Small polyped stony corals (Acropora suharsonoi)—Transfer from Appendix II to Appendix I

228. * Deep-water redfish (Actinopyga echinites)—Add to Appendix II

229. * Surf redfish (Actinopyga mauritiana)—Add to Appendix I or II

230. Panning's blackfish (Actinopyga palauensis)—Add to Appendix II

231. Burrowing blackfish (Actinopyga spinea)—Add to Appendix II

232. * Donkey dung sea cucumber (Holothuria mexicana)—Add to Appendix II

233. Japanese spikey sea cucumber (Apostichopus japonicus)—Add to Appendix I

234. * White teatfish (Holothuria fuscogilva)—Transfer from Appendix II to Appendix I

235. * Florida cone (Conus anabathrum)—Add to Appendix II

236. * Freshwater pearl mussel (Margaritifera margaritifera)—Add to Appendix I or II

237. * Hihiwai (Neritina granosa)—Add to Appendix I or II

238. * Pink abalone (Haliotis corrugata)—Add to Appendix I or II

239. * Green abalone (Haliotis fulgens)—Add to Appendix I or II

240. * Pinto abalone (Haliotis kamtschatkana)—Add to Appendix I or II

241. Giant armored trapdoor spider (Liphistius malayanus)—Add to Appendix I

242. Indian tarantula (Thrigmopoeus insignis)—Add to Appendix I

243. Tarantulas (Typhochlaena spp. [5 species])—Add to Appendix I [5 species]

244. Tarantula family (Theraphosidae) [all ~1,080 unlisted spp.]—Add to Appendix II

245. Mexican orange beauty tarantula (Brachypelma baumgarteni)—Transfer from Appendix II to Appendix I

246. Mexican fireleg tarantula (Brachypelma boehmei)—Transfer from Appendix II to Appendix I

247. Mexican redknee tarantula (Brachypelma hamorii)—Transfer from Appendix II to Appendix I

248. Mexican blackvelvet tarantula (Brachypelma <TLILTOCATL> schroederi)—Transfer from Appendix II to Appendix I

249. Wallace's giant bee (Megachile pluto, synonym Chalicodoma pluto)—Add to Appendix I

Recommendations for Resolutions, Decisions, and Agenda Items for the United States To Consider Submitting for CoP20

In response to the request in our first notice concerning possible CoP20 submissions of resolutions, decisions, and agenda items, we received information and recommendations from the following organizations: Animal Welfare Institute, Association of Zoos & Aquariums, Center for Biological Diversity, Defenders of Wildlife, Environmental Investigation Agency, Humane Society International, International Fund for Animal Welfare, International Wood Products Association, Jamma International, League of American Orchestras, Natural Resources Defense Council, Panthera, Safari Club International, Species Survival Network, Wildlife Conservation Society, and World Wildlife Fund. We also received comments from two individuals.

We evaluated the recommendations submitted by the above organizations and individuals, as well as the factors described in the U.S. approach for CoP20, discussed in our March 22, 2024, Federal Register notice (89 FR 20489), in considering resolutions, decisions, and agenda items that the United States may submit for consideration by the Parties at CoP20. We also considered potential submissions that we identified internally or based on discussions with other CITES Parties. The United States may consider submitting documents on some of the issues for which we are currently undecided or not considering submitting at this time, depending on the outcome of discussions of these issues in the CITES Standing Committee at its 78th meeting (SC78; scheduled to be held February 3-8, 2025), additional consultations with range country governments and subject matter experts, or comments we receive during the public comment period for this notice.

We welcome your comments and information regarding the resolutions, decisions, and agenda items discussed below. Please review the information under ADDRESSES on how to submit information and comments in response to this notice.

A. What resolutions, decisions, and agenda items is the United States likely to submit for consideration at CoP20?

Due to the significant number of issues that are subject to ongoing discussions in the Standing Committee, to date, we have not identified any issues for which we are likely to submit a document to CoP20. As described in this notice, we will make a final decision on whether to submit a document to CoP20 for many issues described in this document pending the outcomes and discussions at SC78.

B. On what resolutions, decisions, and agenda items is the United States still undecided, pending additional information and consultations?

1. Asian big cats: The World Wildlife Fund (WWF) notes that Resolution Conf. 12.5 (Rev. CoP19) on Conservation of and trade in tigers and other Appendix-I Asian big cat species instructs the Secretariat to report to the Standing Committee and the Conference of the Parties on the status of Asian big cats in the wild, their conservation, and trade controls, using information provided by the range countries and other relevant countries. However, noting that the Secretariat rarely receives many responses from Asian big cat range countries, WWF recommends that the United States support the production of an independently produced report for each meeting of the CoP, similar to the process directed in Resolution Conf. 9.14 (Rev. CoP17) on Conservation of and trade in African and Asian rhinoceroses for rhinoceroses. While the United States shares the concerns over the lack of information to help inform the preparation of robust reports, we are also cognizant of the ongoing financial and administrative challenges on the Secretariat and the Parties. Therefore, the United States is currently undecided on whether to propose amendments to Resolution Conf. 12.5 (Rev. CoP19) along the lines of WWF's suggestion. We will continue to review this recommendation to determine a path forward on this issue before CoP20.

2. Compliance matters: Noting the increase in the workload of the Standing Committee to identify, investigate, and resolve potential instances of non-compliance with the Convention, the Wildlife Conservation Society (WCS) proposes that the compliance framework for the Convention be reviewed holistically. WCS notes that this effort could build on the outcomes from existing processes, including review of the National Ivory Action Plan (NIAP) process, recent country-wide reviews under the Review of Significant Trade (RST) process, etc., and suggests that the United States either propose amendments to Resolution Conf. 18.2 on Establishment of committees, to direct the establishment of a Compliance and Enforcement Committee of CoP or submit a discussion document that consolidates, standardizes, and strengthens approaches to identifying and addressing non-compliance with the Convention. Noting ongoing resource and capacity constraints, we are unlikely to propose the establishment of a new committee of the CoP. However, based on additional discussions internally and with like-minded Parties, we may consider submitting a discussion document to examine options for improving and strengthening approaches to identify and address compliance matters.

3. Prioritization of sharks and rays in the review of significant trade (RST) process: The International Fund for Animal Welfare (IFAW), WCS, and Humane Society International (HSI) request that the United States prioritize shark and ray species for all discussions related to the RST and Article XIII compliance processes, to ensure CITES listings are being implemented effectively and in line with CITES obligations. Additionally, IFAW, WCS, and HSI recommend the United States consider submitting draft amendments to Resolution Conf. 12.8 (Rev. CoP18) on Review of Significant Trade in specimens of Appendix-II species to increase the flexibility of the Animals Committee and the Plants Committee to select a number of taxon/country or taxon/multiple country or geographic area combinations of greatest concern, as appropriate.

The United States regards the RST process in CITES as an extremely important and essential tool to ensure that trade in Appendix-II species is biologically sustainable in the short and long term. The ability to select an appropriate number of species/country combinations of greatest concern already exists within the Resolution, and the RST process is flexible to address the conservation concerns raised. We understand the concerns notably for migratory and marine species such as sharks that would allow for the selection of taxa at a broader level, especially at geographic levels, and the concerns specifically expressed at the 32nd meeting of the Animals Committee (AC32; Geneva, June 2023). Any apparent constraints noted at recent meetings were unrelated to the structure of the Resolution and were instead largely a function of the time and resource constraints of the scientific committees and the Secretariat, in particular with the added workload during this intersessional period from work that was delayed during the Covid-19 pandemic. We have actively engaged in the RST review process at Animals, Plants, and Standing Committee meetings and support efforts to build the capacity of CITES Parties. We are concerned about the continued threats to sharks and rays. Therefore, we are considering options to complement the RST process that have conservation benefits to these species. We remain undecided on how best to accomplish such objectives and seek input on possible solutions.

4. Trade in deepwater sharks and stingrays: IFAW, WCS, and HSI recommend that the United States consider developing a proposal to include internationally traded deepwater sharks in the Appendices. In addition, IFAW, WCS, and HSI express concerns about the wider trades of stingray leather (particularly the family Dasyatidae), and shark and ray meat, and recommend the United States consider submitting any information it may have on such trade to the relevant CITES committees and consider if additional species should be included in Appendix II. Please refer to the Recommendations for Species Proposals for the United States To Consider Submitting for CoP20 section of this notice on possible species proposals for information on what the United States is likely, undecided, or unlikely to propose at CoP20.

5. Mismatch of trade in CITES-listed shark species: IFAW, WCS, and HSI encourage the United States to make mismatch of the trade in products of CITES-listed sharks a priority at CoP20, ensuring that firm steps are taken to address the issue of underreporting of CITES-listed sharks and rays in trade. The Standing Committee at SC78 is expected to discuss numerous ongoing CITES compliance issues, including those regarding CITES-listed sharks. The United States takes CITES compliance issues seriously. The mismatch of the trade in products of CITES-listed sharks recorded in the CITES Trade Database remains a concern to the United States. We will closely monitor the outcomes and recommendations from SC78 and determine whether it will be appropriate to submit a document to CoP20 on this matter.

6. Confiscation of live animals: IFAW recommends that the United States consider amendments to Resolution Conf. 17.8 (Rev. CoP19) on Disposal of illegally traded and conﬁscated specimens of CITES-listed species, and its annexes, revising terms such as “disposal” and “euthanasia” to more accurately reflect the task required of Parties. They note that disposal generally refers to non-sentient beings and humane killing would be a more accurate alternative to euthanasia. They also suggest updating Resolution Conf. 17.8 (Rev. CoP19) to align it with the IUCN Guidelines for the management of confiscated, live organisms, and call for adding guidance to the Resolution on immediate handling of confiscated live animals to assist enforcers in decision making, and how to repatriate healthy animals to their country of origin to contribute to conservation of the wild populations.

While the United States appreciates the recommendation to review the terms “disposal” and “euthanasia” to ensure they accurately reflect the task required of Parties, we believe that the current terms are adequate. “Management” is a term typically used when describing stockpiles (parts and products, and not live specimens). Similarly, disposal refers to specifying a destination for the specimens. Regarding the recommendation to update Resolution Conf. 17.8 (Rev. CoP19), we are undecided at this time, including regarding the suggestion to better align it with the IUCN Guidelines and otherwise, pending the outcome of discussions related to Decision 19.174 on Disposal of confiscated specimens at SC78.

7. National Ivory Action Plans (NIAP) process: IFAW encourages the United States to ensure that CoP20 delivers outcomes regarding Decisions 19.68 to 19.70 on Review of the National Ivory Action Plans Process, which direct the Secretariat, subject to external funding, to contract a consultant to review the NIAP process in order to improve its ability to enable action on the ground and provide capacity support for countries that have been identified as sources of significant concern in the global ivory trade.

The United States continues to support the NIAP process and is an active participant in the Standing Committee's intersessional working group that is currently considering the relationship between the Elephant Trade Information System, which informs NIAP decisions, and the CITES Annual Illegal Trade Report. We are concerned with the lack of progress toward implementing the NIAP review recommendations and will consider ways to advance these initiatives at CoP20.

8. Expiration of permits in transit: In Section XII (Regarding permits and certificates for timber species included in Appendices II and III with the annotation `Logs, sawn wood and veneer sheets') of Resolution Conf. 12.3 (Rev. CoP19) on Permits and certificates, inter alia, the Parties recognize that there are certain circumstances where it may be appropriate to extend the period of validity of an export permit or re-export certificate beyond the normal maximum of 6 months after the date of issuance for timber shipments. The International Wood Products Association (IWPA) urges the United States to work with other Parties to update the language to reflect current processes and ensure that shipments of properly permitted timber species included in Appendices II and III are not refused entry due to the realities of international supply chains that rely on ocean shipping. The United States is undecided on whether to submit a discussion document to CoP20 proposing to update this guidance and will make a final decision based on further review of available information, internal discussions, and discussions with other Parties.

9. Trade in wood pellets: In joint comments submitted by the Natural Resources Defense Council (NRDC), the Center for Biological Diversity (CBD), and Defenders of Wildlife (Defenders), they urge the United States to consider submitting a draft decision, resolution, or agenda item seeking to examine international trade in wood pellets and the tree species used in their production. NRDC, CBD, and Defenders assert that the southeastern United States is the primary source for trees converted to wood pellets and then exported to Europe and elsewhere as renewable bioenergy. We are currently undecided on whether to submit a document on this issue but will evaluate available information and undertake additional internal discussions to determine if the United States will submit a discussion document or agenda item on this issue.

10. Identification of corals: CBD expresses concerns regarding the ongoing challenges with documenting live coral and coral rock trade, including identification challenges. CBD urges the United States to propose continued consideration of this issue, including a potential CITES workshop to develop additional identification resources and reconsideration of Resolution Conf. 12.3 (Rev. CoP19) on Permits and certificates. As a major importer of live corals, the United States remains committed to ensuring trade in Appendix-II stony corals is legal and biologically sustainable. The United States supports further examination of issues surrounding trade of live stony corals. We are currently undecided on whether to submit a document on this issue and will consider it further pending outcomes and recommendations from the SC78.

11. Trade suspension against Mexico and advocacy for the vaquita (Phocoena sinus): Animal Welfare Institute (AWI), CBD, Environmental Investigation Agency (EIA), and NRDC request that the United States submit draft decision text for consideration at CoP20 to recommend a trade suspension against Mexico for its ongoing failure to: (1) stop the illegal trade in totoaba (Totoaba macdonaldi); (2) implement its Compliance Action Plan on totoaba; or (3) take other measures as directed by the Parties. The United States remains gravely concerned about the status of the vaquita and illegal trade in totoaba. The United States led efforts at the 19th meeting of the Conference of the Parties (CoP19; Panama, November 2022) to strengthen several draft decisions considered during CoP19 to combat the illegal harvest and trade of totoaba. The Standing Committee will discuss this issue at its next meeting. In light of the above, the United States is currently undecided on whether to submit a document on the issue to CoP20. We will make a decision on submitting a totoaba-related document to CoP20 pending outcomes and recommendations from SC78.

12. Law Enforcement Management Information System (LEMIS) database: AWI encourages the United States to submit an information document for consideration at CoP20 that provides an overview of the Service's Law Enforcement Management Information System (LEMIS), to encourage other Parties to consider implementing similar databases. AWI also suggests that the United States consider hosting a side event at CoP20 to discuss LEMIS.

The United States is a longtime active participant in the Standing Committee's intersessional working group on Electronic Systems and Information Technologies. This working group is the main conduit for developing standards and best practices for electronic permit issuance and enforcement and data reporting. Additionally, staff from the U.S. Fish and Wildlife Service, Office of Law Enforcement, engage in technical assistance activities with other Parties interested in developing their own LEMIS-like processes for collecting legal and illegal CITES trade data, as well as data on legal and illegal trade in non-CITES species consistent with stricter domestic measures such as the U.S. Endangered Species Act and Lacey Act. Each Party has a unique set of circumstances regarding regulations and governance, and there is no one-size-fits-all approach to data system development. That said, it is possible for interested Parties to learn from the U.S. experience as well as the experiences of other Parties that are also developing their own data systems. The United States will consider whether a CoP20 information document on LEMIS or side event at CoP20 would be useful for other Parties. In addition, we will explore the possibility of coordinating with other Parties to present a more comprehensive view of the options available for creating systems similar to LEMIS in collecting and reporting data.

13. Transparency in the Secretariat's activities: The Species Survival Network (SSN) observes that the Secretariat regularly notes its increasing workload while also routinely proposing new analyses, reports, and other work. To address this issue, SSN believes it is important for Parties to have an opportunity to assess the proposed new work against existing work and financial and personnel needs. SSN encourages the United States to propose mechanisms to ensure greater transparency in the Secretariat's activities, operations, and priorities, including submitting a draft decision requiring the adoption of terms of reference by the relevant committee prior to hiring consultants. SSN also encourages the United States to submit a draft decision directing the Secretariat to report to each meeting on all outstanding commitments from existing Decisions and all new work it proposes to undertake, along with estimated budget and staff resources required.

The United States acknowledges the importance of transparency and comprehensive decision making to the CITES processes. Although we are currently undecided on submitting a document to CoP20 specifically calling for the proposed changes, we strongly support the need for ensuring transparency in the Secretariat's activities and operations, including in its implementation of CITES Decisions. We believe that this is particularly the case with regard to the development of terms of reference and selection of consultants to carry out the mandates of Decisions, which we believe are crucial for delivering meaningful outputs that respond to the expectations of the CoP. Consequently, although we are currently undecided, we may submit a discussion document to CoP20 on this issue.

14. Disposal of confiscated specimens: SSN provides a list of what it considers unresolved issues with Resolution Conf. 17.8 (Rev. CoP19) on Disposal of illegally traded and confiscated specimens of CITES-listed species and its annexes; and requests that the United States consider submitting a working document to CoP20 to address those issues. Specifically, SSN requests that the United States submit amendments to the preambular language in Resolution Conf. 17.8 (Rev. CoP19) along with changes to the Annexes to the Resolution to address the need to prevent confiscated CITES-listed specimens, both living and dead specimens or their parts that have been confiscated and returned to their country of origin, from reentering trade; review the language used in the Resolution that considers the advantages of euthanasia of a confiscated specimen to ensure it is not used as a default option, since it is inconsistent with Article VIII of the Convention; review and revise the language pertaining to the placement of confiscated live animals in research laboratories, as it is inconsistent with Article VIII.4 and .5 of the Convention, since such facilities are not established to “look after the welfare of live animals, particularly those that have been confiscated”; make appropriate revisions to the decision tree analysis; and point to the need for greater guidance at the point of confiscation, consideration of the disposal by experts, and the development of a program to help with placing animals in the most appropriate facility regardless of its location within or outside the country of import.

With regard to the recommendation to revise Resolution Conf. 17.8 (Rev. CoP19), we are undecided at this time, pending the outcome of discussions under Decision 19.174 on Disposal of confiscated specimens at SC78. We continue to believe amendments to question 7 of the decision tree analysis in the Resolution are necessary to ensure there are no grounds for concern that any transfer of Appendix-I species will stimulate further illegal or irregular trade or benefit those involved in the illegal or irregular transaction that gave rise to confiscation. We will carefully consider the outcomes at SC78 prior to determining whether to submit a document for consideration at CoP20.

We are unlikely to review language on the advantages and disadvantages of euthanasia because we believe it is consistent with Article VIII of the Convention. We make determinations about the disposal of confiscated specimens on a case-by-case basis, consistent with the Resolution and U.S. regulations. The most important factor to consider in the disposal of confiscated live specimens is the welfare of the wildlife or plants. For live specimens, generally, the disposal options are maintenance in captivity, return to the wild, or euthanasia. In the absence of other options, euthanasia may be the most humane or appropriate option. Although under Article VIII returning confiscated live specimens to the country of export is one available option, it is often not possible. Return to the wild of confiscated specimens can carry risks for existing wild populations, such as introduction of disease, and can result in the death of the specimens released due to starvation, disease, or predation. Before considering return to the wild, a country must decide if that action would make a significant contribution to the conservation of the species or might be harmful to the conservation of the species in the wild. In many countries, including the United States, some confiscated specimens are donated to sanctuaries, zoos, aquariums, or botanical gardens. This option may not be available when a seizure involves a large number of common species, as placement of specimens of lower conservation value in limited space may benefit those individuals but may not support conservation efforts as a whole. We are undecided on whether additional guidance is needed in the Resolution for placement of confiscated live specimens in research laboratories and would welcome additional information on this matter.

15. Implementation of Introduction from the sea provisions: SSN strongly encourages the United States to take action to ensure that CITES continues to monitor and, where needed, actively enhance implementation of provisions relating to Introduction from the Sea (IFS). With new marine species included in the Appendices at each meeting of the CoP since the 14th meeting of the Conference of the Parties (CoP14, The Hague, June 2007), applying the practical guidance included in Resolution Conf. 14.6 (Rev. CoP16) on Introduction from the sea is becoming increasingly important for the conservation of these species and to ensure effective implementation of the Convention. Ensuring clear and consistent guidance on implementation of IFS in accordance with the provisions of the Convention remains a key issue for the United States, and several current Decisions are intended to address challenges regarding implementation of IFS. We are undecided on submitting a document on this issue. We will closely monitor the outcomes and recommendations from SC78 and determine whether it will be necessary to submit a document to CoP20 on this matter.

16. Implementation of CITES listings for sharks and rays: SSN encourages the United States to consider what actions could be taken at CoP20 to improve implementation of CITES listings for sharks and rays. SSN urges the United States to consider submitting proposals to include deepwater shark species in Appendix II and proposals to transfer species that are critically endangered but for which trade is continuing (e.g., oceanic whitetip (Carcharhinus longimanus) shark) to Appendix I, and to be flexible for biologically vulnerable species that fall outside of the range specified in the aquatic footnote when considering any new listing proposals for sharks, rays, and other relevant aquatic species. Please refer to the Recommendations for Species Proposals for the United States To Consider Submitting for CoP20 section of this notice on possible species proposals for information on what the United States is likely, undecided, or unlikely to propose at CoP20.

17. International trade in swim bladders: The United States is concerned about the increasing demand in international trade for swim bladders of teleost fish in the family Sciaenidae. The increased harvest may be putting these species at risk of overexploitation and is contributing to high rates of bycatch and associated mortality of small marine mammals, sharks and rays, and marine turtles. The United States is considering submitting a document to CoP20 to raise awareness of this issue calling for appropriate actions to help ensure that the international trade in these species does not jeopardize their survival in the wild and put protected species that are incidentally caught in target fisheries at further risk of extinction. However, we require further consultations with Parties, and additional fish trade or biological information/data regarding international trade, before making a decision regarding this submission.

18. Personal and household effects: Based on internal discussions and discussions with other range, transit, and consumer countries, the United States may consider proposing or co-sponsoring an amendment to Resolution Conf. 13.7 (Rev. CoP17) on Control of trade in personal and household effects to amend the weight, volume, or number of specimens of certain species to be included in the list in paragraph 3. b) iv) for which the Parties have agreed that CITES documents are not required unless the specimens being carried as a personal or household effect exceeds the weight, volume, or number specified. Based on these additional considerations, we may consider submitting an amendment to the weight, volume, or number with regard to agarwood-producing species that are currently included in the Resolution. We solicit information on what may be appropriate quantities if we decide to submit or co-sponsor such a proposal.

C. What resolutions, decisions, and agenda items is the United States not likely to submit for consideration at CoP20, unless we receive significant additional information?

1. CITES enforcement: Noting concerns regarding low penalties for violations and other enforcement concerns, an individual recommends that the United States increase funding and support to build the capacity of Parties to implement CITES. We recognize the importance of effective implementation of the provisions of the Convention, including compliance and enforcement. The United States has long been a leader in supporting CITES capacity-building and continues to be actively involved in such support, and we are unlikely to submit a document on this issue to CoP20.

2. Reservations under the Convention: A commenter believes that the ability of a Party to take a reservation under CITES weakens the spirit of the Convention and suggests that the United States seek to amend the Convention text to phase out the ability of Parties to enter reservations or create a requirement that reserving Parties provide data demonstrating that trade in the reserving species is non-detrimental. The Articles of the Convention are not open for amendment at regular meetings of the Conference of the Parties, and therefore the United States will not seek to amend the Convention text at CoP20.

Additionally, as noted in the Convention text, CITES is not subject to general reservations and Parties have the ability to enter specific reservations to amendments to the Appendices in accordance with the provisions of Articles XV, XVI, and XXIII. In Resolution Conf. 4.25 (Rev. CoP19) on Reservations, the Parties have agreed to specific guidance on the application of reservations, including a call for Parties that have entered a reservation to maintain and communicate information on trade in the species concerned in their CITES Annual Reports. The United States has never taken a reservation under CITES, and we strongly encourage other Parties to follow our consistent practice in CITES to ensure effective international cooperation in the conservation of species included in the Appendices. Nevertheless, there are avenues to address specific concerns, and therefore we are unlikely to pursue amending the current guidance at CoP20.

Additionally, as noted in the Convention text, CITES is not subject to general reservations and Parties have the ability to enter specific reservations to amendments to the Appendices in accordance with the provisions of Articles XV, XVI, and XXIII. In Resolution Conf. 4.25 (Rev. CoP19) on Reservations, the Parties have agreed to specific guidance on the application of reservations, including a call for Parties that have entered a reservation to maintain and communicate information on trade in the species concerned in their CITES Annual Reports. The United States has never taken a reservation under CITES, and we strongly encourage other Parties to follow our consistent practice in CITES to ensure effective international cooperation in the conservation of species included in the Appendices. Nevertheless, there are avenues to address specific concerns, and therefore we are unlikely to pursue amending the current guidance at CoP20.

3. Streamlining processes under CITES: The Association of Zoos & Aquariums (AZA) recommends that any resolutions, decisions, or agenda items that the United States submits for consideration at CoP20 focus on streamlining processes to decrease burdens on Parties and the wait time for permit processing, such as for activities that pose little or no risk to wild populations. The United States has a long history of working in CITES to streamline processes and enhance strategies for effective implementation of the Convention, and we will continue to do so. Additionally, the Parties are engaged in ongoing discussions on facilitating the efficient international movement of wildlife samples for diagnostic purposes and/or conservation purposes and the non-commercial movement of musical instruments for purposes of performance, display, or competition. In light of the above, the United States is unlikely to submit a document on the issue to CoP20.

4. CITES implementation: AZA recommends that the United States develop implementation plans for any new CITES listings or increased regulatory controls and share these plans before CoP20 so that the decisions taken at CoP20 include assurances of effective implementation, and that the Service include associated funding requirements in its FY 2026 budget request. The Service, as the U.S. CITES Management and Scientific Authority, will continue to work with the relevant U.S. Government entities and stakeholders, as appropriate, to ensure effective implementation and enforcement of new listings and associated regulatory controls to facilitate legal, traceable, and biologically sustainable trade in CITES-listed species.

5. Illicit financial flows: WWF believes that a resolution on illicit financial flows arising from trade in contravention of CITES would complement and reinforce Resolution Conf. 17.6 (Rev. CoP19) on Prohibiting, preventing, detecting and countering corruption, which facilitates activities conducted in violation of the Convention. These issues are already considered in the context of existing Resolutions including Resolution Conf. 11.3 (Rev. CoP19) on Compliance and enforcement and Resolution Conf. 17.6 (Rev. CoP19). Therefore, we are unlikely to propose a new resolution on this issue to CoP20; however, we will continue to look for opportunities to ensure effective implementation of these Resolutions.

6. Traceability: WWF recommends that the United States introduce an agenda topic on the adoption of a resolution on traceability. WWF thinks that the current definition and guidance as adopted by CITES is not sufficient and more species need traceability systems. WWF believes that there is a need for a stronger emphasis on the use of traceability for products from CITES-listed species that would best be served through the adoption of a resolution on traceability. WWF cites studies that have looked at the use of traceability for CITES-listed species and increasingly specific taxonomic groups included in the Appendices, such as sharks and rays, which have been identified through the Standing and Animals Committees' processes as potential candidates that could benefit from use of traceability.

The United States appreciates WWF's recommendation to introduce a draft resolution on traceability. At the 17th meeting of the Conference of the Parties (CoP17; Johannesburg, September/October 2016), the Parties adopted a working definition for traceability and guidance on its application, which is available to Parties on the CITES website with links to the associated documents. The 70th meeting of the Standing Committee (SC70; Sochi, October 2018) and the 18th meeting of the Conference of the Parties (CoP18; Geneva, August 2019) considered whether a resolution on traceability should be drafted and decided it was not warranted at that time. We continue to support those conclusions and are not convinced that a resolution is needed at this time. Therefore, we are unlikely to submit one to CoP20 unless additional information becomes available that warrants reassessing this issue.

7. Immortal cell lines, genome libraries, and trace DNA samples: Citing the importance of immortal cell lines, genome libraries, and trace DNA for conservation genetics and wildlife forensics, and the length of time and cost associated with obtaining CITES documents, two individuals recommend that the United States submit a proposal to CoP20 to amend Resolution Conf. 9.6 (Rev. CoP19) on Trade in readily recognizable parts and derivatives, to exclude them from CITES requirements.

With regard to immortal cell lines and genome libraries, the individuals contend that they do not have “any template of the organism from which they are derived . . . and are considered as synthetic DNA, eligible for exclusion under CITES.” With regard to trace DNA, the individuals argue that amounts of 50 micrograms or less have no anticipated financial value and, therefore, should be excluded from CITES requirements.

We note that the Parties in Resolution Conf. 9.6 (Rev. CoP19) have agreed that “the term `readily recognizable part or derivative,' as used in the Convention, is interpreted to include any specimen that appears from an accompanying document, the packaging or a mark or label, or from any other circumstances, to be a part or derivative of an animal or plant of a species included in the Appendices.” As defined by the commenters, immortal cells, genome libraries, and trace DNA all meet the current CITES definition of a readily recognizable part or derivative.

We note that the potential financial value of specimens of CITES-listed species is not the determining factor for regulating international trade in the species. Also, recognizing that the trade in many biological samples, because of their special nature or because of the special purpose of such trade, requires expedited processing of permits and certificates to allow for the timely movement of shipments, the Parties have adopted simplified procedures to issue permits and certificates for such samples, subject to certain requirements (see Resolution Conf. 12.3 (Rev. CoP19) on Permits and certificates). Additionally, the Parties are engaged in ongoing discussions to examine the development of additional mechanisms to facilitate the efficient international movement of wildlife samples for diagnostic and/or conservation purposes. In light of the above, the United States is unlikely to submit a proposed amendment to Resolution Conf. 9.6 (Rev. CoP19) to CoP20.

8. Elephant taxonomy: IFAW recommends that the United States consider the taxonomy of the African elephant and that any change to the current listing for the African elephant in the Appendices should list them as Loxodonta spp. and that such a change would not alter the scope of the current species listing. As IFAW notes, this issue is the subject of current intersessional discussions by the Animals Committee and the Standing Committee. At AC33, the Animals Committee accepted the new taxonomy for African elephants and referred use of Loxodonta spp. for consideration at SC78. We support the conclusions of the Animals Committee and will develop positions consistent with that approach for SC78 and CoP20, and therefore, we are unlikely to submit a document to CoP20 on this issue.

9. Recognizing the role of rangers in CITES implementation: IFAW recommends that the United States submit a standalone resolution, or amendments to Resolution Conf. 10.4 (Rev. CoP14) on Cooperation and synergy with the Convention on Biological Diversity or Resolution Conf. 11.3 (Rev. CoP19) on Compliance and enforcement to recognize the fundamental importance of rangers to CITES implementation.

The United States recognizes the importance of enforcement officers, including rangers, in the effective implementation and enforcement of CITES. However, we are unlikely to submit a document on this subject to CoP20. We will continue to seek opportunities to support the recognition, protection, and support of rangers and other enforcement officers.

10. Annotations for CITES-listed tree species: The League of American Orchestras (LAO) reiterates its longstanding concerns that the imposition of CITES requirements on the transboundary movement of musical instruments (for performance and resale) has hindered trade and cultural activity with little associated conservation value. As the discussions proceed, particularly in the Standing Committee, LAO emphasizes the need for the CITES controls to apply where they have the greatest conservation value. The United States has been involved in, and led, the annotations- related discussions in CITES and will continue to be actively involved in such discussions, including in stressing the need to apply the guidance adopted by the Parties in Resolution Conf. 11.21 (Rev. CoP19) on Use of annotations in Appendices I and II, including that the conservation impact of excluding certain specimens from CITES provisions and the enforceability of the annotation should be considered, that controls should concentrate on those commodities that first appear in international trade as exports from range States, and that controls should include those commodities that dominate the trade from the wild. Given the ongoing discussions, we do not see a need to submit a discussion document on this matter to CoP20.

11. Travel with instruments containing CITES-listed species: LAO, on behalf of multiple musical instrument stakeholders, requests that Parties consider recommendations for efficiencies for transportation and commerce of musical instruments containing CITES-listed species from the Standing Committee's working group on rapid movement of wildlife diagnostic samples and of musical instruments. They also request that Parties undertake consideration of permit exemptions for musical instruments transported by cargo under an ATA carnet. The United States is a member of the working group on rapid movement of wildlife diagnostic samples and of musical instruments and is actively engaged in discussions to consider additional efficiencies, in accordance with the requirements of the Convention, for non-commercial movement of musical instruments containing CITES-listed species. We are unlikely to submit a recommendation for permit exemptions for musical instruments as we cannot propose or support the adoption of a new exemption from CITES requirements that does not exist under the Convention. We will continue to work with the Parties, musicians, and other stakeholders in an effort to ensure that Parties utilize the existing efficiencies.

12. Engagement of Indigenous Peoples as well as local communities: Jamma International, on behalf of the Community Leaders Network and Resource Africa, expresses its support for a proposal to establish a technical advisory body to continue the work of the Standing Committee's intersessional working groups on livelihoods and engagement of Indigenous Peoples. They wish for a technical advisory body to discuss opportunities, including formation of an informal Indigenous Peoples as well as local communities caucus; funding sources to cover range country costs of national-level consultation with Indigenous Peoples as well as local communities; improved registration processes or recognition of a separate Indigenous Peoples as well as local communities observer category for CITES meetings; and other international level engagement mechanisms. They urge the United States to support continuation of the working group at SC78 and through CoP20.

The United States is a member of the intersessional working group and will continue to actively engage in its work. We acknowledge that achieving the conservation aim of CITES can result in important positive benefits to Indigenous Peoples as well as local communities, while on the other hand illegal trade and unsustainable use that CITES is designed to prevent can have serious negative consequences for Indigenous Peoples as well as local communities. The United States believes that effective engagement of Indigenous Peoples as well as local communities in CITES decision making is critical to the successful implementation of CITES decisions. However, we believe that Parties should engage Indigenous Peoples as well as local communities in their national processes via the consultative processes already provided in existing CITES Resolutions, with the addition of supportive, non-binding guidance that is being developed through current CITES Decisions. We maintain that it is up to Parties as to whether and how their national Indigenous Peoples as well as local communities would be included in international meetings, including as delegation members of those Parties, consistent with Resolution Conf. 16.6 (Rev. CoP18) on CITES and livelihoods.

Considering the workload and financial impact to Parties and the Secretariat, we do not support the establishment of another permanent committee. We will continue to engage in discussions in the working group but do not support a separate Indigenous Peoples as well as local communities registration category within the CITES process, as it is not in line with text of the Convention and would put additional burdens on the Secretariat. We are open to other ideas to engage Indigenous Peoples as well as local communities in CITES, and we have expressed that perspective in the intersessional working group.

13. Emergency listing mechanism: CBD recommends that the United States submit a working document proposing amendments to the CoP Rules of Procedure or a draft resolution to consider proposals to amend Appendix I or Appendix II on an emergency basis outside of meetings of the CoP. Article XV of the Convention provides for a postal procedure to consider proposed amendments to Appendix I or II between meetings of the CoP. In accordance with Article XVI, any Party may at any time include in Appendix III a species that it identifies as being subject to regulation within its jurisdiction for the purpose of preventing or restricting exploitation, and as needing the cooperation of other Parties in the control of trade (see also Resolution Conf. 9.25 (Rev.CoP18 on Implementation of the Convention for species in Appendix III)). Considering the mechanisms in the Convention, the United States is unlikely to submit to CoP20 proposed amendments to the CoP Rules of Procedure or a draft resolution on this issue.

14. Marine ornamental fishes: Given the high volume of specimens and species in international trade and the risk that trade presents to some species, CBD recommends that the United States propose a draft decision to continue the discussions on trade in marine ornamental fishes during the next intersessional period. The United States has long played a leadership role in considering international trade in marine ornamental fishes and continues to be actively involved in the discussions. We support the recommendations of the workshop on marine ornamental fishes that took place in May 2024, as well as the outcomes from AC33. We note that the Animals Committee agreed to propose draft decisions to CoP20 to continue the work during the next intersessional period, including encouraging Parties to develop methods or analytical tools to support prioritization of marine ornamental fishes that may warrant further research or other considerations. Given this information, the United States is unlikely to submit a document on this issue to CoP20.

15. Sea cucumbers: CBD recommends that the United States propose a draft decision on sea cucumber trade that would call for convening a second global workshop to consider the status, conservation, and management of sea cucumbers globally. We are unlikely to submit a draft decision calling for additional work, subject to external funding, for which we do not currently envision having funding to support. Therefore, we are unlikely to submit a draft decision on this issue. Nevertheless, consistent with our efforts to ensure that international trade in sea cucumbers is legal and biologically sustainable, we are considering several species of sea cucumbers found in the Caribbean to assess their conservation status and determine whether international trade could pose a threat to their survival in the wild and therefore warrant potential inclusion in the Appendices.

16. Compliance matters: CBD recommends that the United States seek to improve CITES compliance mechanisms by making clear that Technical Advisory Groups (TAGs) can and should be used in the process to provide technical knowledge and ensure transparency and accountability. The United States notes that the CITES compliance procedures outlined in Resolution Conf. 14.3 (Rev. CoP19) on CITES compliance procedures already provide an avenue for undertaking necessary consultations, including with outside experts as appropriate, and accountability and transparency are key parts of the existing processes. Therefore, the United States is unlikely to take action related to this recommendation.

17. Global trade in swim bladders: AWI encourages the United States to submit a draft resolution on the global trade in swim bladders of croaker species (Sciaenidae spp.) for consideration at CoP20. The United States is unlikely to submit a draft resolution on the global trade in croaker swim bladders to CoP20, as most croaker species are not included in the Appendices. It would be more appropriate and effective for species conservation, where the CITES listing criteria are met, to propose species of concern for inclusion in the Appendices to ensure international trade is legal, traceable, and biologically sustainable. As noted in the previous section, based on internal discussions, the United States is considering submitting a document to CoP20 to raise awareness regarding the international trade in swim bladders and calling for appropriate actions to help ensure that the international trade in the species does not jeopardize their survival in the wild and put protected species that are incidentally caught in target fisheries at further risk of extinction.

18. Confiscations and welfare: With reference to Resolution Conf. 17.8 (Rev. CoP19) on Disposal of confiscated specimens of CITES-listed species, AWI encourages the United States to: (1) consider submitting a working document to CoP20 directing the Secretariat, subject to the availability of external funding, to prepare a report examining how animal welfare issues are currently addressed under the Convention and its implementation, and to identify how CITES could integrate additional welfare considerations into its implementation; (2) submit revisions to Resolution Conf. 17.8 (Rev. CoP19) to ensure that the Resolution text is consistent with the intent of the Convention, and to incorporate an animal welfare ethic into the treatment of any seized/confiscated specimens; and (3) join other Parties in opposing ex-situ trade in live, wild-caught African and Asian elephants with limited exceptions.

With regard to the recommendation to update Resolution Conf. 17.8 (Rev. CoP19), we are unlikely to recommend them at this time but will make a final decision based on additional discussions and pending the outcome of discussions at SC78. Consistent with the guidance in Resolution Conf. 17.8 (Rev. CoP19), the most important factor we consider in the disposal of confiscated living specimens is the welfare of the wildlife or plants, and we make such determinations on a case-by-case basis, consistent with the Resolution and our regulations. Additional work on transport of live specimens is already taking place under several Decisions, including to ensure that Parties have the resources and guidance necessary to implement and enforce the Convention's requirements (Articles III, IV, V, and VII) that “any living specimens are so prepared and shipped” and “transported and cared for as to minimize the risk of injury, damage to health or cruel treatment” and further requirements (Article VIII) that “all living specimens, during any period of transit, holding or shipment, are properly cared for so as to minimize the risk of injury, damage to health or cruel treatment.” Therefore, we are unlikely to submit a document directed at the suggested revisions. We are also unlikely to submit a document on trade in live elephants, as current Decisions and ongoing discussions are already considering these issues.

19. Compliance measures: AWI encourages the United States to make clear that the compliance procedures set out in Article XIII are not only triggered when the provisions of the Convention are violated but also when a species included in Appendix I or II is being affected adversely by trade. AWI argues that such overly limited interpretations will substantively weaken the impact of CITES. AWI also encourages the United States to advocate for compliance processes to be applied equally to transit and consumer countries, in addition to range countries. We agree regarding the importance of ensuring compliance with CITES requirements and believe that sufficient mechanisms already exist to consider and take appropriate actions when trade is determined to be adversely affecting species included in Appendix I or II and when transit and consumer States fail to comply with the provisions of the Convention. Therefore, we are unlikely to submit a discussion document or agenda item to CoP20 on these issues.

20. Potential submissions and implementation costs: Safari Club International (SCI) encourages the United States to submit no new resolutions, decisions, agenda items, or species proposals for consideration at CoP20 without careful consideration for costs and how effective each proposal would be at achieving the desired outcomes. We remain cognizant of workload and resource issues and strive to use existing measures, where applicable. The United States will carefully consider each resolution, decision, or agenda item, including whether they could be effectively implemented. Additionally, the United States works closely with States, Native American Tribes, and other national stakeholders, to ensure that species are appropriately included in the Appendices. We also consult range countries for foreign species, and for species whose range the United States shares with one or more other countries.

The United States also remains concerned regarding the funding and prioritization of core CITES work and will continue to work through the Standing Committee's Finance and Budget Subcommittee and the CoP to address these issues. Currently, we do not intend to submit draft decisions on this matter to CoP20.

21. Funding for CITES implementation and enforcement: Noting the proliferation of new work streams under CITES while longstanding and operational work remains incomplete, SSN encourages the United States to ensure that programmatic work subject to external funding is prioritized in line with the core mandate of CITES rather than to reflect national or organizational interests. SSN also suggests that the United States consider proposing a process to ensure that the status of current priorities is evaluated and regularly shared, especially prior to a meeting of the Conference of the Parties, to enable Parties to assess the relative financial costs of the adoption of new work streams and/or the continuation of others. The United States remains concerned regarding the funding and prioritization of core CITES work and will determine, based on further internal discussions, additional opportunities to influence such discussions.

22. Funding for meetings of the CoP: Noting the importance of ensuring that meetings of the CoP are held in different regions and the financial constraints with being able to do that, SSN urges the United States to submit a draft decision to CoP20 directing the Secretariat and the Standing Committee's Finance and Budget Subcommittee to explore funding mechanisms with the aim of guaranteeing that future CoPs will not have to be postponed or withdrawn for financial reasons. The United States shares SSN's concerns and is actively engaged in discussions with the Secretariat and in the work of the Subcommittee to consider funding for CoPs and other key CITES activities. Because these considerations are already included in the ongoing discussions, the United States is unlikely to submit the suggested draft decisions.

23. Leopards: SSN requests the United States to consider further review of, or amendments to, Resolution Conf. 10.14 (Rev. CoP19) on Quotas for leopard hunting trophies and skins for personal use, aimed at strengthening the scientific oversight of annual leopard quotas and reducing overexploitation of the species. Panthera also recommends review of Resolution Conf. 10.14 (Rev. CoP19) and suggested that amendments may be needed to ensure that exports and imports of specimens will not be detrimental to the survival of the species, in particular amendments requiring the Animals Committee to review the approach of leopard trophy hunting quotas established by the CoP and non-detriment finding reports, as well as reducing the mandated interval for review of quotas as called for in Resolution Conf. 9.21 (Rev. CoP18) on Interpretation and application of quotas for species included in Appendix I.

Each of the current quotas for leopards from range countries were reviewed by the Animals Committee at its 30th or 31st meeting (AC30: Geneva 2018; AC31: online 2021). Decisions were taken and each of the export quotas were approved at either CoP18 (Geneva 2019) or CoP19 (Panama 2022). At AC33, the Animals Committee agreed to propose draft decisions for consideration at CoP20 that concern consolidating and sharing information related to the management and monitoring of leopard and hunting quotas that assist Parties in making non-detriment findings for trade in leopard hunting trophies in accordance with Resolution Conf. 10.14 (Rev. CoP19). Therefore, we are unlikely to propose amendments to Resolution Conf. 10.14 (Rev. CoP19) to CoP20.

24. Trade and conservation in Old World porcupines: SSN recommends that the United States submit a working document on the trade and conservation of Old World porcupines (Hystricidae) with accompanying draft decisions instructing the Secretariat to commission a study on the scale and scope of the trade in the species, current knowledge on status of the species, management by range countries, status of captive-sourced production, and also including recommendations regarding the conservation and management of the species, including through possible actions under CITES. In light of existing workloads and priorities, the United States is unlikely to submit a document on this issue. However, we will carefully consider any proposals or discussion documents submitted to CoP20 on trade in these species, and we will develop our position based on available information, internal discussions, and public input.

25. International trade in frogs for consumption: SSN urges the United States to submit a working document to CoP20 calling for a study on the international trade in frogs, including frogs' legs, for human consumption, in order to identify actions that CITES might take to ensure that this trade is not detrimental to the survival of wild populations of frogs. During the current intersessional period, the Secretariat, the Parties, and the Animals Committee have undertaken work in accordance with Decisions 19.197 to 19.199 on Conservation of amphibians (Amphibia spp.). In response to the work undertaken to date on this issue, including in consideration of the outcomes from the CITES Online workshops on conservation of amphibians (Amphibia spp.) (November/December 2023), the Animals Committee at AC33 agreed to submit draft decisions to CoP20 to undertake additional work on the conservation of and trade in amphibians during the next intersessional period. Therefore, the United States is unlikely to submit a document to CoP20 on this issue.

Request for Information and Comments

We invite information and comments concerning any of the possible CoP20 species proposals, resolutions, decisions, and agenda items discussed above. Please note that we are unlikely to submit any suggested species proposals to amend the Appendices that contained no information (or minimal information) for consideration other than species name and Appendix suggestion. We have limited resources with which to analyze and prepare potential species proposals for consideration by the Conference of the Parties to CITES and are unable to prioritize consideration of these recommendations for preparation of U.S. proposals to CoP20 where no information (or minimal information) has been presented demonstrating the CITES criteria are met for the suggested species proposal. We may still consider these possible proposals if we receive information demonstrating the CITES criteria in Resolution Conf. 9.24 are met.

We note that in our request for information in our first Federal Register notice for CoP20 (89 FR 20489; March 22, 2024), we encouraged the submission of information on possible species proposals, including if these species are subject to international trade that is, or may become, detrimental to the survival of the species. We outlined the information that should be submitted, and we included information on the CITES criteria for inclusion of species in Appendices I and II and the format for proposals to amend the Appendices (in Resolution Conf. 9.24 (Rev. CoP17) https://cites.org/sites/default/files/document/E-Res-09-24-R17.pdf). We also asked that commenters submit convincing information describing: (1) The status of the species, especially trend information; (2) conservation and management programs for the species, including the effectiveness of enforcement efforts; and (3) the level of international trade as well as domestic trade in the species, especially trend information.

Public Availability of Comments

You must submit your information and comments to us no later than the date specified in DATES, above, to ensure that we consider them. We will not consider comments sent by email or fax, or to an address not listed in ADDRESSES.

Comments and materials received will be posted for public inspection on https://www.regulations.gov (see ADDRESSES). Our practice is to post all comments, including names and addresses of respondents, and to make comments, including names and home addresses of respondents, available for public review. There may be circumstances in which we would withhold from public review a respondent's name and/or address, as allowable by law. If you wish for us to withhold your name and/or address, you must state this prominently at the beginning of your comment, but we cannot guarantee that we will be able to do so. We will make all comments and materials submitted by organizations or businesses, and by individuals identifying themselves as representatives or officials of organizations or businesses, available for public inspection in their entirety.

Observers

Article XI, paragraph 7, of CITES states that “any body or agency technically qualified in protection, conservation or management of wild fauna and flora, in the following categories, which has informed the Secretariat of its desire to be represented at meetings of the Conference by observers, shall be admitted unless at least one-third of the Parties present object:

(a) international agencies or bodies, either governmental or non-governmental, and national governmental agencies and bodies; and

(b) national non-governmental agencies or bodies which have been approved for this purpose by the State in which they are located. Once admitted, these observers shall have the right to participate but not to vote.”

Persons wishing to be observers representing international nongovernmental organizations (which must have offices in more than one country) at CoP20 may request approval directly from the Secretariat. Persons wishing to be observers representing U.S. national nongovernmental organizations at CoP20 must receive prior approval from the U.S. Division of Management Authority (ADDRESSES). Once we grant our approval, a U.S. national nongovernmental organization is eligible to register with the Secretariat and must do so at least 6 weeks prior to the opening of CoP20 to participate in the meeting as an observer. Individuals who are not affiliated with an organization may not register as observers. An international nongovernmental organization with at least one office in the United States may register as a U.S. nongovernmental organization if it prefers.

An organization seeking approval from our office to attend CoP20 as an observer must include in their request evidence of their technical qualifications in protection, conservation, or management of wild fauna or flora, for both the organization and the individual representative(s). The request must also include copies of the organization's charter and any bylaws, and a list of representatives it intends to send to CoP20.

Organizations seeking approval for the first time should detail their experience in the protection, conservation, or management of wild fauna or flora, as well as their purposes for wishing to participate in CoP20 as an observer. An organization that we have approved within the past 5 years as an observer to a meeting of the Conference of the Parties does not need to provide as much detailed information concerning its qualifications as an organization seeking approval for the first time. Requests should be sent to the Division of Management Authority at the address provided in ADDRESSES, above; via email to managementauthority@fws.gov; or via fax to 703-358-2276.

Once we approve an organization as an observer, we will direct them to the location on the CITES website where they can obtain instructions for registering with the Secretariat and obtain logistical information about the meeting. A list of organizations approved for observer status at CoP20 will be available upon request from the Division of Management Authority immediately prior to the start of CoP20.

Future Actions

The Secretariat will prepare a provisional agenda for CoP20 following the submission of documents for the meeting. We will publish the CoP20 provisional agenda in the Federal Register and on our website at https://www.fws.gov/international-affairs/cites/cop20.

The United States must submit any proposals to amend Appendix I or II and any draft resolutions, decisions, or agenda items for discussion at CoP20 to the Secretariat at least 150 days (i.e., by June 27, 2025) prior to the start of the meeting. In order to meet this deadline and to prepare for CoP20, we have developed a tentative U.S. schedule. We will consider all available information and comments we receive during the comment period for this Federal Register notice as we decide which species proposal items warrant submission by the United States for consideration by the Parties. Approximately 4 months prior to CoP20, we will post on our website an announcement of the species proposals, draft resolutions, draft decisions, and agenda items submitted by the United States to the Secretariat for consideration at CoP20.

Through additional notices and website postings in advance of CoP20, we will inform you about preliminary negotiating positions on resolutions, decisions, and proposals to amend the Appendices proposed by other Parties for consideration at CoP20. We will also publish an announcement of a public meeting to be held approximately 2 to 3 months prior to CoP20, to receive public input on our positions regarding CoP20 issues. The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Authors

The primary authors of this notice are Thomas E.J. Leuteritz, Ph.D., Branch Chief, Division of Scientific Authority, and Anne St. John, Biologist, Division of Management Authority, U.S. Fish and Wildlife Service.

Authority

The authority for this action is the Endangered Species Act of 1973, as amended (16 U.S.C. 1531 et seq.).

Martha Williams,
Director, U.S. Fish and Wildlife Service.

[FR Doc. 2024-30698 Filed 12-23-24; 8:45 am]

BILLING CODE 4333-15-P